DEPARTMENT OF TRANSPORTATION

Federal Aviation Administration

14 CFR Part 135

[Docket No. FAA-1999-5401; Amendment No. 135-118]

Manual Requirements

AGENCY: Federal Aviation Administration, DOT.

ACTION: Final rule; technical amendment.

SUMMARY: The Federal Aviation Administration (FAA) is making a minor technical change to a final rule published in the Federal Register on February 2, 2005. This final rule established new manual requirements for aging aircraft under 14 CFR part 135. In the final rule, the FAA inadvertently changed one of the regulatory references in § 135.427(a).

DATES: Effective Dates: Effective on August 4, 2009.

FOR FURTHER INFORMATION CONTACT: Kim A. Barnette, Flight Standards Service (AFS-320), Federal Aviation Administration, 800 Independence Ave., SW., Washington, DC; phone (202) 385-6403; e-mail Kim.A.Barnette@faa.gov.

SUPPLEMENTARY INFORMATION: On February 2, 2005, the FAA published a final rule in the Federal Register (70 FR 5533), better known as `Aging Airplane Safety', clarifying the content requirements in the maintenance manual. In the process, this final rule re-designated 14 CFR 135.424 to § 135.423, and failed to revise § 135.427(a), which still referenced § 135.424.

Technical Amendment

This technical amendment will correct § 135.427(a) to properly reference § 135.423.

List of Subjects

14 CFR Part 135

Air taxis, Aircraft, Airmen, Alcohol abuse, Aviation safety, Drug abuse, Drug testing, Reporting and recordkeeping requirements.

Accordingly, Title 14 of the Code of Federal Regulations (CFR) part 135 is amended as follows:

PART 135—OPERATING REQUIREMENTS; COMMUTER AND ON DEMAND OPERATIONS AND RULES GOVERNING PERSONS ON BOARD SUCH AIRCRAFT

1. The authority citation for part 135 continues to read as follows:

Authority: 49 U.S.C. 106(g), 41706, 44113, 44101, 44701-44702, 44705, 44709, 44711-44713, 44715-44717, 44722.

2. Amend § 135.427 by revising paragraph (a) to read as follows:

§ 135.427 Manual requirements.

(a) Each certificate holder shall put in its manual the chart or description of the certificate holder's organization required by § 135.423 and a list of persons with whom it has arranged for the performance of any of its required inspections, other maintenance, preventive maintenance, or alterations, including a general description of that work.

* * * * *

Issued in Washington, DC, on July 30, 2009.
Pamela Hamilton-Powell,
Director, Office of Rulemaking.

[FR Doc. E9-18602 Filed 8-3-09; 8:45 am]

BILLING CODE 4910-13-P